DEPARTMENT OF DEFENSE

Office of the Secretary

Manual for Courts-Martial; Publication of Supplementary Materials

AGENCY: Joint Service Committee on Military Justice (JSC), Department of Defense (DoD).

ACTION: Publication of supplementary materials accompanying the Manual for Courts-Martial (MCM), United States (2024 ed.).

SUMMARY: The JSC hereby announces the publication of the supplementary materials accompanying the MCM. These supplemental materials have been approved by the JSC and the General Counsel of the DoD and shall be applied in conjunction with the rule with which they are associated. The supplemental materials are separated into 5 “TABs” (alternatively called “ANNEXES”), TABs A through E.

DATES: The supplemental materials in TABs A, C, D, and E should be consulted on or after December 27, 2023, when utilizing the MCM (2024 edition). The amendments to the Discussion sections of Parts II and III of the MCM, found in TAB B, are effective insofar as the rules they supplement are effective. Refer to the text of E.O. 14103 (July 28, 2023) for further information on the effective date of the rules.

FOR FURTHER INFORMATION CONTACT: Commander Anthony M. DeStefano, U.S. Coast Guard, Executive Secretary, JSC, (202) 372-3807 (voice), anthony.m.destefano@uscg.mil (email). The JSC website is located at http://jsc.defense.gov.

SUPPLEMENTARY INFORMATION: The supplementary materials, as amended by the President in Executive Order (E.O.) 12473 (April 13, 1984) to present, including Executive Order (E.O.) 14062 (January 26, 2022) and E.O. 14103 (July 28, 2023) [hereinafter “MCM (2024 ed.)”], are available on the internet at https://jsc.defense.gov/Military-Law/Changes-Since-2012-MCM/. These changes have not been coordinated within the DoD under DoD Directive 5500.1, “Preparation, Processing, and Coordinating Legislation, E.O. Proclamations, Views Letters and Testimony,” June 15, 2007, and do not constitute the official position of the DoD, the Military Departments, or any other department or agency of the U.S. government.

Dated: December 5, 2023.
Natalie M. Ragland,
Alternate OSD Federal Register Liaison Officer, Department of Defense.

[FR Doc. 2023-27073 Filed 12-8-23; 8:45 am]

BILLING CODE 6001-FR-P